COMMITTEE FOR THE IMPLEMENTATION OF TEXTILE AGREEMENTS

Determination under the Textile and Apparel Commercial Availability Provision of the Dominican Republic-Central America-United States Free Trade Agreement (CAFTA-DR Agreement)

May 23, 2006.

AGENCY: Committee for the Implementation of Textile Agreements (CITA).

ACTION: Determination to add a product in unrestricted quantities to Annex 3.25 of the CAFTA-DR Agreement.

SUMMARY: The Committee for the Implementation of Textile Agreements (CITA) has determined that certain 100% cotton flannel fabrics, as specified below, are not available in commercial quantities in a timely manner in the CAFTA-DR region. The product will be added to the list in Annex 3.25 of the CAFTA-DR Agreement in unrestricted quantities.

EFFECTIVE DATE: May 26, 2006.

FOR FURTHER INFORMATION CONTACT: Richard Stetson, Office of Textiles and Apparel, U.S. Department of Commerce, (202) 482 2582.

FOR FURTHER INFORMATION ON-LINE:

http://web.ita.doc.gov/tacgi/CaftaReqTrack.nsf.

Reference number: 3.2006.04.17.Fabric.ST&RforBWA.

SUPPLEMENTARY INFORMATION:

Authority: Section 203(o)(4) of the Dominican Republic-Central America-United States Free Trade Agreement Implementation Act (CAFTA-DR Act); the Statement of Administrative Action (SAA), accompanying the CAFTA-DR Act; Presidential Proclamations 7987 (February 28, 2006) and 7996 (March 31, 2006).

The CAFTA-DR Agreement provides a list in Annex 3.25 for fabrics, yarns, and fibers that the Parties to the CAFTA-DR Agreement have determined are not available in commercial quantities in a timely manner in the territory of any Party. Articles that otherwise meet the rule of origin to qualify for preferential treatment are not disqualified because they contain one of the products on the Annex 3.25 list.

The CAFTA-DR Agreement provides that the list in Annex 3.25 may be modified pursuant to Article 3.25(4)-(6). The CAFTA-DR Act states that the President will make a determination on whether additional fabrics, yarns, and fibers are available in commercial quantities in a timely manner in the territory of any Party. The CAFTA-DR Act requires the President to establish procedures governing the submission of a request and providing opportunity for interested entities to submit comments and supporting evidence before making a determination. In Presidential Proclamations 7987 and 7996, the President delegated to CITA the authority under section 203(o)(4) of CAFTA-DR Act for modifying the Annex 3.25 list. On February 23, 2006, CITA published interim procedures it would follow in considering requests to modify the Annex 3.25 list. (71 FR 9315)

On April 17, 2006, the Chairman of CITA received a request from Sandler, Travis, & Rosenberg, P.A. on behalf of B*W*A for certain 100% cotton flannel fabrics, of the specifications detailed below. On April 19, 2006, CITA notified interested parties of, and posted on its website, the accepted petition and requested that interested entities provide, by May 1, 2006, a response advising of its objection to the request or its ability to supply the subject product, and rebuttals to responses by May 5, 2006.

No interested entity filed a response advising of its objection to the request or its ability to supply the subject product.

In accordance with Section 203(o)(4) of the CAFTA-DR Act, and its procedures, as no interested entity submitted a response objecting to the request or expressing an ability to supply the subject product, CITA has determined to add the specified fabrics to the list in Annex 3.25 CAFTA-DR Agreement.

The subject fabrics are added to the list in Annex 3.25 CAFTA-DR Agreement in unrestricted quantities.

Specifications:

HTS Subheading: | 5208.43.00
Fiber Content: | 100% Cotton
Average Yarn Number: | 67 to 69 metric warp and filling (39.5 to 40.5 English)
Thread Count: | 44 to 48 warp ends per centimeter X 31 to 39 filling picks per centimeter; none less than 78.7 ends and picks per square centimeter. (112 to 122 warp ends per inch X 79 to 100 filling picks per inch; none less than 200 ends and picks per square inch)
Weave Type: | 3 or 4 thread twill
Weight: | 98 to 152 grams per square meter (2.9 to 4.5 ounces per sq. yard)
Width: | 145 to 154 centimeters (57 to 63 inches)
Finish: | Of yarns of different colors, plaids, checks and stripes, napped on both sides, pre-shrunk

James C. Leonard III,
Chairman, Committee for the Implementation of Textile Agreements.

[FR Doc. 06-4916 Filed 5-24-06; 11:10 am]

BILLING CODE 3510-DS-S